DEPARTMENT OF COMMERCE

Foreign-Trade Zones Board

[B-58-2022]

Foreign-Trade Zone (FTZ) 151—Findlay, Ohio; Notification of Proposed Production Activity; Procter & Gamble Manufacturing Company (Industrial Perfumes/Fragrance Mixtures); Lima, Ohio

Procter & Gamble Manufacturing Company submitted a notification of proposed production activity to the FTZ Board (the Board) for its facility in Lima, Ohio within FTZ 151. The notification conforming to the requirements of the Board's regulations (15 CFR 400.22) was received on December 2, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include industrial perfumes/fragrance mixtures used in the manufacture of home care, fabric care, skin care, hair care, shave care, baby care, and other personal care products (duty rate is duty-free).

The proposed foreign-status materials and components include: opoponax resinoid; oils (cinnamon bark; lime; grapefruit; olibanum resin; Peru balsam; sandalwood; cedarleaf; nutmeg; caraway; citronella; clove leaf rectified; coriander; elemi; guaiacwood; vetiver; juniper berry; thyme white blend; cardamom seed; clary sage; black pepper; ginger; artemisia herba-alba leaf; orange; pine); bisabolene; camphene; dipentene; caryophyllene extra; ambrocenide 10% in dipropylene glycol (90%); alpha pinene; beta pinene; p-mentha-1,4-diene; para cymene; proprietary mixtures (musk xylol modification; nerolidol; labdanum; blackberry flavor not for food industry; lime natural blend not for food industry); caprylic alcohol; tetra hydro linalool; dimethyl octanol; dimethyl-2 6-heptan-2-ol; tetra-hydro myrcenol; 2,6-dimethyl-octan-2-ol; citronellol; geraniol; linalool; nerolidol; ethyl linalool; dihydro myrcenol; nonadienol, 2-trans-6-cis; 3,6-nonadien-1-ol; cis-6-nonen-1-ol; beta gamma hexenol; 4-methyl-3-decen-5-ol; rosalva; 1,3-propanediol, 2,2-dimethyl-, 1,3-diacetate; hydroxycitronellol; nirvanol; l-menthol; 1-(2,2,6-trimethylcyclohexyl)-3-hexanol; cyclohexanepropanol, 2,2,6-trimethyl-alpha-propyl-; octalynol; 2-pentylcyclopentan-1-ol; l-borneol; cyclopropanemethanol, 1-methyl-2-[(1,2,2-trimethylbicyclo[3.1.0]hex-3-yl)methyl]-; ethyl trimethylcyclopentene butenol; 3-methyl-5-(2,2,3-trimethyl-3-cyclopenten-1-yl)pent-4-en-2-ol; cis-4-(isopropyl)cyclohexanemethanol; 3-cyclopentene-1-butanol, alpha,beta,2,2,3-pentamethyl-; ethyl trimethyl cyclopentene butenol; cyclopropanemethanol, 2-(1,4-dimethyl-3-penten-1-yl)-1-methyl-; alpha terpineol; isocyclogeraniol; terpineol; verdol; 3,3-dimethyl-5-(2,2,3-trimethyl-3-cyclopenten-1-yl)-4-penten-2-ol; isoborneol; hydroxyambran; 4-tert-butylcyclohexanol; cedrol; 4-terpineol; 2-methyl-4-(2,2,3-trimethyl-3-cyclopenten-1-yl)-2-buten-1-ol; santalol; 2-propen-1-ol, 2-methyl-3-(4-methylphenyl)-, (2E)-; benzyl alcohol; dimethyl benzyl carbinol; 1H-indende-2-methanol, 2,3-dihydro-2,5-dimethyl-; cinnamyl alcohol; phenyl ethyl alcohol; phenyl hexanol; phenyl ethyl dimethyl carbinol; β,β,3-trimethyl benzenepropanol; phenyl propyl alcohol; rosaphen; butylated hydroxy toluene; thymol; 3-hexene, 1-[(2-methyl-2-propenyl)oxy]- (3Z)-; cedryl methyl ether; terpinyl methyl ether; formaldehyde cyclododecyl ethyl acetal; dihydroanethole; methyl iso eugenol; dihydro eugenol; para cresyl methyl ether; benzene, 1-(cyclopropylmethyl)-4-methoxy; anethole; cyclohexyl phenethyl ether; methyl phenethyl ether; beta naphthol methyl ether; diphenyl oxide; phenyl ethyl isoamyl ether; dipropylene glycol; 1-propanol, 2-methyl-3-[(1,7,7-trimethylbicyclo[2.2.1]hept-2-yl)oxy]; 1-(2-tert-butyl cyclohexyloxy)-2-butanol; methyl vanillyl ether; eugenol; iso eugenol; phenoxyethanol; myroxide; citral dimethyl acetal; rosetal A; methyl nonyl acetaldehyde dimethyl acetal; 2,6-octadienal, 3,7-dimethyl-, reaction products with ethyl alcohol; phenyl acetaldehyde dimethyl acetal; methyl pamplemousse; pino acetaldehyde; citral; decyl aldehyde; octanal; undecanal, 2-methyl-; methyl octyl acetaldehyde; nonanal; 2,6,10-trimethyl-9-undecenal; trans-4-decenal; trans-2-hexenal; intreleven aldehyde; lauric aldehyde; undecyl aldehyde; undecylenic aldehyde; dihydrocitronellal; citronellal; floral super; α,α,6,6-tetramethylbicyclo[3.1.1]hept-2-ene-2-propionaldehyde; melonal; alkenes, C12-14; benzaldehyde; lily aldehyde; hexyl cinnamic aldehyde; (R)-3-phenylbutanal; 2,4-dimethyl-3-cyclohexene carboxaldehyde; 2,3-dihydro-1,1-dimethyl-1H-indene-ar-propanal; dupical; isopropylphenylbutanal; 1-formyl-1-methyl-4-(4-methyl-pentyl)-3-cyclohexene; benzenepropanal, 2-methyl-4-(2-methylpropyl); mefranal; dimethylcyclohex-3-ene-1-carbaldehyde; melafleur; 3-(o-ethylphenyl)-2,2-dimethylpropionaldehyde; isocyclocitral; cuminyl acetaldehyde; (4-methylphenoxy)acetaldehyde; melozone; 2-methyl-3-(p-isopropylphenyl)propionaldehyde; amyl cinnamal; cyclohexanepropanal, 4-(2-methylpropyl)-; vanillin; ethyl vanillin; anisic aldehyde; butanal, 4-(heptyloxy)-3-methyl; hydroxycitronellal; methoxy melonal; aldehyde mandarin 10% in triethyl citrate; methoxy dicyclopentadiene carboxaldehyde; vanillin methyl ether; 6-methoxy-2,6-dimethyloctanal; para-anisyl propanal; 3-(4-hydroxy-4-methylpentyl)cyclohex-3-ene-1-carbaldehyde; methyl n-amyl ketone; methyl heptenone; 3,5,6,6-tetramethyl-4-methyleneheptan-2-one; methyl nonyl ketone; florantone T; ionone beta; gamma methyl ionone; N-methyl ionone; methyl ionone; irone alpha refined; dihydro beta ionone; azurone 10% in triethyl citrate (90%); iso hexenyl cyclohexenyl carboxaldehyde; ionone alpha; hexalon; 2-cyclopentyl cyclopentanone; decen-1-yl-cyclopentanone; alpha damascone; damascone beta; delta damascone; delphone; muscone; delta muscenone; 2,2,5-trimethyl-5-pentylcyclopentanone; octahydro-7-methyl-1,4-methanonaphtalen-6(2H)-one; galbascone; cis jasmone; l-carvone; iso menthone; (2R*,3S*)-2-acetyl-1,2,3,4,5,6,7,8-octahydro-2,3,8,8-tetramethylnaphthalene; diethyldimethylcyclohex-2-en-1-one; 5-cyclotetradecen-1-one, 3-methyl-,(5E)-; 4-penten-1-one, 1-spiro[4.5]dec-7-en-7-yl-; camphor gum; tetramethyl acetyloctahydronaphthalenes; 6,7-dihydro-1,1,2,3,3-pentamethyl-4(5H)-indanone; methyl cedrylone; 4-t-amylcyclohexanone; 1-(1,2,3,4,5,6,7,8-octahydro-2,3,8,8-tetramethyl-2-naphthalenyl)ethenone; isojasmone; 2-(p-menth-1-ene-10-yl)cyclopentanone; cyclohexadecenone; racemic menthone; 5-cyclohexadecen-1-one; laevo muscone; 2-sec-butyl cyclo hexanone; isolongifolanone; methyl beta-naphthyl ketone; 6-acetyl-1,1,2,4,4,7-hexamethyltetraline; benzyl acetone; para methyl acetophenone; acetophenone; methylcyclopentenolone; para hydroxy phenyl butanone; para methoxy acetophenone; 3,3,5,5-tetramethyl-4-ethoxyvinylcyclohexanone; musk ketone; cis-3-hexenyl formate; linalyl formate; aphermate; citronellyl formate; ethyl acetate; cyclohexyl ethyl acetate; citronellyl acetate; geranyl acetate; linalyl acetate; prenyl acetate; 4-tert-butylcyclohexyl acetate; isoamyl acetate; natural isobutyl acetate; tricyclodecenyl acetate; hexyl acetate; dihydro terpinyl acetate; nopyl acetate; tetrahydro linalyl acetate; anisyl acetate; (E)-6,10-dimethylundeca-5,9-dien-2-yl acetate; methyl phenyl carbinyl acetate; iso eugenol acetate; iso nonyl acetate; neryl acetate; terpinyl acetate; iso bornyl acetate; benzyl acetate; cis 3 hexenyl acetate; dimethyl benzyl carbinyl acetate; 4-tert butyl cyclohexyl acetate; 2-tert-butylcyclohexyl acetate; cinnamyl acetate; citryl acetate; menthyl acetate; neobergamate forte; phenyl ethyl acetate; iso bornyl propionate; 1,3-dimethylbut-3-enyl isobutyrate; 3a,4,5,6,7,7a-hexahydro-4,7-methano-1H-indenyl propionate; linalyl propionate; ethyl propionate; benzyl propionate; cyclabute; phenyl ethyl iso butyrate; linalyl iso butyrate; isoamyl butyrate; geranyl butyrate; dimethyl benzyl carbinyl butyrate; ethyl-2-methyl butyrate; ethyl-2-methyl pentanoate; iso propyl 2-methylbutyrate; benzyl butyrate; ethyl butyrate; phenoxy ethyl iso butyrate; vanillin isobutyrate; hexyl isobutyrate; pivacyclene; (E)-3,7-dimethyl-2,6-octadienyl-hexadecanoate; methyl palmitate; iso propyl myristate; allyl caproate; amyl propionate; ethyl oenanthate; ethyl caproate; allyl heptoate; ethyl isovalerate; ethyl 2,4-decadienoate; phenyl ethyl tiglate; cis-3-hexenyl cis-3-hexenoate; methyl octine carbonate; methyl-2-nonenoate; geranyl tiglate; strawberiff; 2-cyclohexene-1-carboxylic acid, 2,3,6,6-tetramethyl-, ethyl ester; ethyl safranate; cyclopropanecarboxylic acid, (3Z)-3-hexenyl ester; allyl cyclohexane propionate; cis-3-hexenyl benzoate; benzyl benzoate; linalyl benzoate; butyl benzoate; ethyl benzoate; methyl benzoate; 1-phenylvinyl acetate; phenyl ethyl phenyl acetate; methyl phenyl acetate; zenolide; ethylene brassylate; 1,4-cyclohexanedicarboxylic acid, diethyl ester; triethyl citrate; allyl amyl glycolate; benzyl salicylate; hexyl salicylate; amyl salicylate; cyclohexyl salicylate; cis-3-hexenyl salicylate; methyl salicylate; methyl atrarate; methyl dihydrojasmonate; dihydro iso jasmonate; ethyl acetoacetate; calyxol; butyl butyryl lactate; 2-(1-(3′,3′-dimethyl-1′-cyclohexyl)ethoxy)-2-methyl propyl propanoate; allyl phenoxy acetate; ethyl methyl phenyl glycidate; allyl (cyclohexyloxy)acetate; acetic acid, (1-oxopropoxy)-, 1-(3,3-dimethylcyclohexyl)ethyl ester; carbonic acid, 2-methoxy-4-methylphenyl methyl ester; cyclooct-4-en-1-yl methyl carbonate; cis-3-hexenyl methyl carbonate; 2,2′-methyliminodiethanol; methyl 2-[(2-methylundecylidene)amino]benzoate; methyl anthranilate; aurantiol; butanamide, 2-ethyl-N-methyl-N-(3-methylphenyl); citronellonitrile; 2-phenyl-hex-2-enenitrile; alpha-cyclohexylidene benzeneacetonitrile; alpha-cyclohexylidene benzeneacetonitrile; 3,7-dimethyl-2,6-nonadienenitrile; 2-methyldecanenitrile; dodecane nitrile; fleuranil; octanenitrile; acetic acid, cyano-, reaction products with 10-undecenal; leafy oxime; 4-methoxy-2-methyl-2-butanethiol; sauvignone 100; p-mentha-8-thiol-3-one, para (50%) in triethyl citrate (50%); 1-p-menthene-8-thiol 0.1% in triethyl citrate (99.9%); 2-butanone, 4-(dodecylthio)-4-[2,6,6-trimethyl-1(or 2)-cyclohexen-1-yl]; rhubafuran; linalool oxide; 4-hydroxy-2,5-dimethyl-3(2H)-furanone; 2-furancarboxylic acid, tetrahydro-, ethyl ester; gamma-octalactone; omega pentadecalactone; delta decalactone; delta-dodecalactone; oxacyclohexadec-12-en-2-one, (12E); tetrahydro-6-(3-pentenyl)-2H-pyran-2-one; ambrettolide; octahydro coumarin; coumarin; gamma decalactone; nonalactone; gamma-undecalactone; γ-methyldecalactone; (+/-) 3-methyl-γ-decalactone; heliotropin; pyranol; 2-isobutyl-4-methyltetrahydro-2H-pyran-4-ol; naphtho[2,1-b]furan, dodecahydro-3a,6,6,9a-tetramethyl; 3,6-dihydro-4-methyl-2-phenyl-2H-pyran; 2-(2,4-dimethyl-3-cyclohexen-1-yl)-5-methyl-5-(1-methylpropyl)-1,3-dioxane; ethyl maltol; 2-[8-isopropyl-6-methylbicyclo[2.2.2]oct-5-en-2-yl]-1,3-dioxolane; maltol; 2,4-dimethyl-2-(5,6,7,8-tetrahydro-5,5,8,8-tetramethyl-2-naphthalenyl)-1,3-dioxolane; methyl laitone 10% in triethyl citrate (90%); eucalyptol; hexamethylindanopyran; tobacarol; grisalva; pentamethyl octahydroindenodioxane; 2H-indeno[4,5b] furan, decahydro-2,2,6,6,7,8,8-heptamethyl; hexamethylindanopyran (50%) in dipropylene glycol (50%); heloional; rose oxide; nerolione; 2,4,6-trimethyl-4-phenyl-1,3-dioxane; indeno[1,2-d]-1,3-dioxin, 4,4a,5,9b-tetrahydro-2,4-dimethyl-; ambrocenide crystals; methyl dioxolan; 2,2,6-trimethyl-6-vinyltetrahydropyran; iso butyl quinoline; 7,7,8,9,9-pentamethyl-6,6a,7,8,9,9a-hexahydro-5H-cyclopenta[h]quinazoline; indole; 2-isopropyl-4-methyl thiazole; oils of industrial perfumes/fragrance mixtures not used in the food industry (orange; lemon; tangerine; cedarwood; lavender; patchouli; basil); terpenes (lemon oil; orange); myrcene; natural pineapple type flavor; industrial perfumes/fragrance mixtures used in the manufacture of home care, fabric care, skin care, hair care, shave care, baby care and other personal care products; hercolyn-D; and, geranyl formate (duty rate ranges from duty-free to 6.5%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is January 23, 2023.

A copy of the notification will be available for public inspection in the “Online FTZ Information System” section of the Board's website.

For further information, contact Juanita Chen at juanita.chen@trade.gov.

Dated: December 8, 2022.
Andrew McGilvray
Executive Secretary.

[FR Doc. 2022-27071 Filed 12-13-22; 8:45 am]

BILLING CODE 3510-DS-P